DEPARTMENT OF THE INTERIOR

Fish and Wildlife Service

50 CFR Part 17

RIN 1018-AN58

Endangered and Threatened Wildlife and Plants; Determination of Threatened Status for One Steelhead Evolutionarily Significant Unit (ESU) in California

AGENCY: Fish and Wildlife Service, Interior.

ACTION: Final rule.

SUMMARY: We, the U.S. Fish and Wildlife Service (Service) are adding the northern California Evolutionarily Significant Unit (ESU) of steelhead (Oncorhynchus mykiss) to the List of Endangered and Threatened Wildlife as threatened. This amendment to the list, authorized by the Endangered Species Act of 1973 (Act), is based on a determination by the National Marine Fisheries Service (NMFS), which has jurisdiction for this species.

DATES: Effective August 7, 2000.

FOR FURTHER INFORMATION CONTACT: Nancy Gloman, Chief, Office of Conservation and Classification, U.S. Fish and Wildlife Service, (703/358-2171).

SUPPLEMENTARY INFORMATION: In accordance with Reorganization Plan No. 4 of 1970, the NMFS, National Oceanic and Atmospheric Administration, Department of Commerce, is responsible for decisions under the Act regarding the northern California ESU of steelhead. Under section 4(a)(2) of the Act, NMFS must decide whether a species under its jurisdiction should be classified as endangered or threatened, and the Service is responsible for the actual addition of these species to the List of Endangered and Threatened Wildlife in 50 CFR 17.11(h).

The NMFS published its determination of threatened status for the northern California ESU, of steelhead on June 7, 2000 (65 FR 36075). Accordingly, we are now adding the northern California steelhead ESU to the List of Endangered and Threatened Wildlife, as a threatened species. Only naturally spawned populations of steelhead (and their progeny) residing below naturally occurring and man-made impassible barriers (e.g., impassable waterfalls and dams) are added to the list by this action. This addition is effective as of August 7, 2000, as indicated in the NMFS determination. Because this action is nondiscretionary, and in view of the public comment period provided by NMFS on the February 11, 2000, proposed listing (65 FR 6960), we find that good cause exists to omit the notice and public comment procedures of 5 U.S.C. 553(b).

Paperwork Reduction Act of 1995 (44 U.S.C. 3501 et seq.)

This rule does not contain any information collection requirements that require Office of Management and Budget approval under the Paperwork Reduction Act.

National Environmental Policy Act

We have determined that an environmental assessment, as defined under the authority of the National Environmental Policy Act of 1969, need not be prepared in connection with regulations adopted pursuant to section 4(a) of the Act. We published a notice outlining our reasons for this determination in the Federal Register on October 25, 1983 (48 FR 49244).

List of Subjects in 50 CFR Part 17

Endangered and threatened species, Export, Import, Reporting and recordkeeping requirements, Transportation.

Regulation Promulgation

Accordingly, we amend part 17, subchapter B of chapter 1, title 50 of the Code of Federal Regulations, as set forth below:

PART 17—[AMENDED]

1. The authority citation for part 17 continues to read as follows:

Authority: 16 U.S.C. 1361-1407; 16 U.S.C. 1531-1544; 16 U.S.C. 4201-4245; Pub. L. 99-625, 100 Stat. 3500, unless otherwise noted.

2. Amend § 17.11(h) by adding the following to the List of Endangered and Threatened Wildlife, in alphabetical order under FISHES:

§ 17.11 Endangered and threatened wildlife.

* * * * *

(h) * * *

Species: Common name | Species: Scientific name | Historic range | Vertebrate population where endangered or threatened | Status | When listed | Critical habitat | Special rules
FISHES
* * * * * * *
Steelhead | Oncorhynchus (=Salmo) mykiss | North Pacific Ocean from the Kamchatka Peninsula in Asia to the northern Baja Peninsula | All naturally spawned populations (and their progeny) in river basins from Redwood Creek in Humboldt County, CA, to the Gualala River, in Mendocino County, CA (inclusive) | T | 701 | NA | NA

Dated: August 30, 2000.
Jamie Rappaport Clark,
Director, Fish and Wildlife Service.

[FR Doc. 00-22861 Filed 9-6-00; 8:45 am]

BILLING CODE 4310-55-P